FEDERAL COMMUNICATIONS COMMISSION

47 CFR Part 73

[DA 05-2906; MB Docket No. 05-279; RM-11276]

Radio Broadcasting Services; Black River and Old Forge, NY

AGENCY: Federal Communications Commission.

ACTION: Proposed rule.

SUMMARY: This document requests comments on a petition for rulemaking filed by Radioactive, LLC, permittee of an unconstructed FM station, Channel 223A, Old Forge, New York. Petitioner proposes to reallot Channel 223A from Old Forge to Black River, as the community's first local aural transmission service, and to modify the construction permit authorization for Channel 223A to reflect the change of community. The proposed coordinates for Channel 223A at Black River are 44-04-01 NL and 75-38-53 WL with a site restriction of 13.3 kilometers (8.3 miles) northeast of the community.

DATES: Comments must be filed on or before December 27, 2005, and reply comments on or before January 10, 2006.

ADDRESSES: Secretary, Federal Communications Commission, 445 Twelfth Street, SW., Washington, DC 20554. In addition to filing comments with the FCC, interested parties should serve the Petitioner's counsel as follows: Radioactive, LLC, c/o Marissa G. Repp, Esq., Hogan & Hartson LLP, 555 Thirteenth St., NW., Washington, DC 20004-1109.

FOR FURTHER INFORMATION CONTACT: Helen McLean, Media Bureau, (202) 418-2738.

SUPPLEMENTARY INFORMATION: This is a synopsis of the Commission's Notice of Proposed Rule Making, MB Docket No. 05-279, adopted November 2, 2005, and released November 4, 2005. The full text of this Commission decision is available for inspection and copying during normal business hours in the FCC's Reference Information Center at Portals II, CY-A257, 445 Twelfth Street, SW., Washington, DC. This document may also be purchased from the Commission's duplicating contractors, Best Copy and Printing, Inc., 445 12th Street, SW., Room CY-B402, Washington, DC 20554, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under New York, is amended by removing Channel 223A at Old Forge and by adding Black River, Channel 223A.

Federal Communications Commission.
John A. Karousos,
Assistant Chief, Audio Division, Media Bureau.

[FR Doc. 05-22837 Filed 11-22-05; 8:45 am]

BILLING CODE 6712-01-P